DEPARTMENT OF TRANSPORTATION

Federal Aviation Administration

Revision of Advisory Circular 91-57 Model Aircraft Operating Standards

AGENCY: Federal Aviation Administration (FAA), Department of Transportation (DOT).

ACTION: Notice of availability.

SUMMARY: This notice announces the availability of revised advisory circular (AC) 91-57, Model Aircraft Operating Standards. The revised AC may be viewed at http://www.faa.gov/regulations_policies/advisory_circulars/. The revised AC provides guidance to persons operating unmanned aircraft for hobby or recreation purposes meeting the statutory definition of “model aircraft” contained in Section 336 of the FAA Modernization and Reform Act of 2012 (Pub. L. 112-95). The FAA refers model aircraft users to section 336 of Public Law 112-95 for information regarding model aircraft operations.

DATES: Effective date September 9, 2015.

FOR FURTHER INFORMATION CONTACT: Randy Willis, Manager, Emerging Technologies Team, Federal Aviation Administration, 470 L'Enfant Plaza SW., Suite 7105, Washington, DC 20051; telephone (202) 267-8152; email: Randy.Willis@faa.gov or Dean E. Griffith, Attorney, International Law, Legislation and Regulations Division, Office of the Chief Counsel, Federal Aviation Administration, 800 Independence Avenue SW., Washington, DC 20591; telephone: (202) 267-3073; email: dean.griffith@faa.gov.

Issued in Washington, DC on September 3, 2015.
Lirio Liu,
Director, Office of Rulemaking.

[FR Doc. 2015-22635 Filed 9-8-15; 8:45 am]

BILLING CODE 4910-13-P